DEPARTMENT OF HOMELAND SECURITY

Federal Emergency Management Agency

[Docket ID: FEMA-2020-0004; OMB No. 1660-0107]

Agency Information Collection Activities: Submission for OMB Review; Comment Request; FEMA Public Assistance Customer Satisfaction Surveys

AGENCY: Federal Emergency Management Agency, Department of Homeland Security (DHS).

ACTION: 30 Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 20, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Kristin Brooks, Statistician, Customer Survey Analysis Section, Reporting and Analytics Division, Recovery Directorate, at (940) 891-8579 or kristin.brooks@fema.dhs.gov.

SUPPLEMENTARY INFORMATION: This proposed information collection previously published in the Federal Register on January 30, 2020 at 85 FR 5461 with a 60-day public comment period. No comments were received. The purpose of this notice is to notify the public that FEMA will submit the information collection abstracted below to the Office of Management and Budget for review and clearance. The only changes made were to the average hourly wage rates based on updated U.S. Department of Labor information.

Collection of Information

Title: FEMA Public Assistance Customer Satisfaction Surveys.

Type of information collection: Revision of a currently approved information collection.

OMB Number: 1660-0107.

Form Titles and Numbers: FEMA Form 519-0-32, Public Assistance Initial Customer Satisfaction Survey (Telephone); FEMA Form 519-0-33, Public Assistance Initial Customer Satisfaction Survey (internet); FEMA Form 519-0-34, Public Assistance Assessment Customer Satisfaction Survey (Telephone); FEMA Form 519-0-35, Public Assistance Assessment Customer Satisfaction Survey (internet).

Abstract: Federal agencies are required to survey their customers to determine the kind and quality of services customers want and their level of satisfaction with those services. FEMA managers use the survey results to measure performance against standards for performance and customer service, measure achievement of strategic planning objectives, and generally gauge and make improvements to disaster service that increase customer satisfaction.

Affected Public: Not-for-profit institutions, State, local, or Tribal government.

Estimated Number of Respondents: 4,034.

Estimated Number of Responses: 4,034.

Estimated Total Annual Burden Hours: 1,902.

Estimated Total Annual Respondent Cost: $110,629.

Estimated Respondents' Operation and Maintenance Costs: $12,420.

Estimated Respondents' Capital and Start-Up Costs: N/A.

Estimated Total Annual Cost to the Federal Government: $803,624.

Comments: Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-13274 Filed 6-18-20; 8:45 am]

BILLING CODE 9111-23-P